FEDERAL COMMUNICATIONS COMMISSION

47 CFR Part 73

[DA 00-1571; MM Docket No. 96-204; RM-8876 and RM-9015]

Radio Broadcasting Services; Martin, Tiptonville, and Trenton, TN

AGENCY: Federal Communications Commission.

ACTION: Final rule; petition for reconsideration.

SUMMARY: This document denies a petition for reconsideration of a Report and Order Order, 63 FR 49684 (September 17, 1998), that denied a petition for rule making and the alternative allotment plan filed by Thunderbolt Broadcasting Company (“Thunderbolt”) proposing the substitution of Channel 267C3 for Channel 269A at Martin, Tennessee. To accommodate its proposal to upgrade Station WCMT(FM)'s Channel 269A to Channel 267C3 at Martin, Thunderbolt also proposed to substitute Channel 247A for Channel 267C3 at Tiptonville, Tennessee and to substitute Channel 249C3 for Channel 248C3 at Trenton, Tennessee. These alternate proposals were rejected because engineering studies determined that retaining Channel 267C3 at Tiptonville would result in service to many more people than allotting Channel 267C3 to Martin.

ADDRESSES: Federal Communications Commission, Washington, DC 20554.

FOR FURTHER INFORMATION CONTACT: R. Barthen Gorman, Mass Media Bureau, (202) 418-2180.

SUPPLEMENTARY INFORMATION: This is a synopsis of the Commission's Memorandum Opinion and Order, MM Docket No. 96-204, adopted on July 5, 2000, and released on July 14, 2000. The full text of this Commission decision is available for inspection and copying during normal business hours in the FCC's Reference Information Center at Portals II, CY-A257, 445 12th Street, SW., Washington, DC 20554. The complete text of this decision may also be purchased from the Commission's copy contractors, International Transcription Service, Inc., (202) 857-3800, located at 1231 20th Street, NW., Washington, DC 20036.

Federal Communications Commission.
John A. Karousos,
Chief, Allocations Branch, Policy and Rules Division, Mass Media Bureau.

[FR Doc. 00-18752 Filed 7-24-00; 8:45 am]

BILLING CODE 6712-01-P